OFFICE OF GOVERNMENT ETHICS

Revised Updated OGE Senior Executive Service Performance Review Board

AGENCY: Office of Government Ethics (OGE).

ACTION: Notice.

SUMMARY: A revised notice is hereby given of the appointment of members of the updated OGE Senior Executive Service (SES) Performance Review Board.

DATES: Effective Date: September 26, 2007.

FOR FURTHER INFORMATION CONTACT: Daniel D. Dunning, Deputy Director for Administration and Information Management, Office of Government Ethics, Suite 500, 1201 New York Avenue, NW., Washington, DC 20005-3917; Telephone: 202-482-9300; TDD: 202-208-9293; FAX: 202-482-9237.

SUPPLEMENTARY INFORMATION: 5 U.S.C. 4314(c) requires each agency to establish, in accordance with regulations prescribed by the Office of Personnel Management at 5 CFR part 430, subpart C and § 430.310 thereof in particular, one or more Senior Executive Service performance review boards. As a small executive branch agency, OGE has just one board. In order to ensure an adequate level of staffing and to avoid a constant series of recusals, the designated members of OGE's SES Performance Review Board are being drawn, as in the past, in large measure from the ranks of other agencies. The board shall review and evaluate the initial appraisal of each OGE senior executive's performance by his or her supervisor, along with any recommendations in each instance to the appointing authority relative to the performance of the senior executive. This revised notice updates the membership of OGE's SES Performance Review Board as it was most recently published at 72 FR 53773-53774 (September 20, 2007), in order to reflect the appointment of one new member from another agency to replace a member from an agency who was not able to serve on OGE's board this year.

Approved: September 21, 2007.
Robert I. Cusick,
Director, Office of Government Ethics.

The following officials have been appointed as regular members of the SES Performance Review Board of the Office of Government Ethics:

Marilyn L. Glynn [Chair], General Counsel, Office of Government Ethics

Daniel D. Dunning [Alternate Chair], Deputy Director for Administration and Information Management, Office of Government Ethics

Daniel L. Koffsky, Special Counsel, Office of Legal Counsel, Department of Justice

David Maggi, Chief, Ethics Law and Programs Division, Office of the Assistant General Counsel for Administration, Department of Commerce; and

Robert A. Shapiro, Associate Solicitor for Legal Counsel, Department of Labor

[FR Doc. E7-18973 Filed 9-25-07; 8:45 am]

BILLING CODE 6345-02-P